FEDERAL COMMUNICATIONS COMMISSION

47 CFR Part 25

[IB Docket No. 18-314; Report No. 3171; FRS 21230]

Petitions for Reconsideration of Action in Rulemaking Proceeding

AGENCY: Federal Communications Commission.

ACTION: Petitions for Reconsideration.

SUMMARY: Petitions for Reconsideration (Petitions) have been filed in the Commission's rulemaking proceeding by Tom Stroup, on behalf of the Satellite Industry Association, Joseph A. Goldes, on behalf of Iridium Constellation LLC, and David Goldman, on behalf of Space Exploration Technologies Corp.

DATES: Oppositions to the Petitions must be filed on or before May 6, 2021. Replies to an opposition must be filed on or before May 17, 2021.

ADDRESSES: Federal Communications Commission, 45 L Street NE, Washington, DC 20554.

FOR FURTHER INFORMATION CONTACT: Clay DeCell, International Bureau, (202) 418-0803 or Clay.DeCell@fcc.gov.

SUPPLEMENTARY INFORMATION: This is a summary of the Commission's document, Report No. 3171, released April 12, 2021. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Further Streamlining Part 25 Rules Governing Satellite Services, FCC 20-159, published at 86 FR 11880, March 1, 2021, in IB Docket No. 18-314. This document is being published pursuant to 47 CFR 1.429(e). See also 47 CFR 1.4(b)(1) and 1.429(f), (g).

Number of Petitions Filed: 3.

Federal Communications Commission.
Marlene Dortch,
Secretary, Office of the Secretary.

[FR Doc. 2021-08189 Filed 4-20-21; 8:45 am]

BILLING CODE 6712-01-P